DEPARTMENT OF COMMERCE

National Oceanic and Atmospheric Administration

RIN 0648-XD409

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings.

DATES: The meetings will be held Monday, August 11, 2014 through Thursday, August 14, 2014. See SUPPLEMENTARY INFORMATION for specific dates and times.

ADDRESSES: The meetings will be held at The W Washington, DC, 515 15th St. NW., Washington, DC 20004, telephone: (202) 661-2400.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION:

Monday, August 11, 2014

The Council will convene at 2 p.m.

2 p.m. until 2:15 p.m.—Swearing in of new and reappointed Council members and the election of Council Officers will be held.

2:15 p.m. until 5 p.m.—The Deep Sea Coral Amendment will be discussed.

5 p.m. until 6 p.m.—The Listening Session will be held.

Tuesday, August 12, 2014

9 a.m.—The Council will convene.

9 a.m. until 11 a.m.—Meeting 2 of the Black Sea Bass Wave 1/May 1 Opening Framework will be discussed.

11 a.m. until 12 noon—The Special Management Zone (SMZ) Proposed Rule will be discussed.

1 p.m. until 3 p.m.—Research Set-Aside (RSA) will be discussed.

3 p.m.—The Council will meet with the Atlantic States Marine Fisheries Commission's (ASMFC) Bluefish Board.

3 p.m. until 5 p.m.—Bluefish specifications will be discussed.

Wednesday, August 13, 2014

9 a.m.—The Council will convene with a Demersal Committee meeting as a Committee of the Whole with the Atlantic States Marine Fisheries Commission's Summer Flounder, Scup, and Black Sea Bass Board.

9 a.m. until 11 a.m.—The Council will review the 2015 Black Sea Bass Specifications.

11 a.m. until 12 noon—The Council will review the 2015 Scup Specifications.

1 p.m. until 3 p.m.—The Council will review the 2015 Summer Flounder Specifications.

3 p.m. until 5 p.m.—The Council will discuss the Comprehensive Summer Flounder Amendment.

Thursday, August 14, 2014

9 a.m.—The Council will convene.

9 a.m. until 10 a.m.—The Omnibus Amendment to Simplify Vessel Baselines will be discussed.

10 a.m. until 1 p.m.—The Council will hold its regular Business Session to receive Organizational Reports, the New England and South Atlantic Liaison Reports, the Executive Director's Report, the Science Report, Committee Reports, and conduct any continuing and/or new business.

Agenda items by day for the Council's Committees and the Council itself are:

On Monday, August 11—The Council will convene to swear in new and reappointed Council members and hold an election for Council Officers. During the Deep Sea Coral Amendment discussion the Council will review alternatives and Fishery Management Action Team recommendations and approve the Public Hearing Document. A Listening Session will be held.

On Tuesday, August 12—Meeting 2 of the Black Sea Bass Wave 1/May 1 Opening Framework will be held to review and recommend alternatives for submission. The Council will review the proposed regulations regarding the SMZ Proposed Rule. The Council will review the RSA's overall program operations and discuss its' future direction. The Council in conjunction with the ASMFC's Bluefish Board will review the Scientific and Statistical Committee (SSC), the Bluefish Monitoring Committee, and the Advisory Panel's recommendations and adopt 2015 harvest levels and associated management measures and discuss ASFMC's approval of the 2014 Fishery Management Plan Review and the Terms of Reference for the Bluefish stock assessment.

On Wednesday, August 13—The Council in conjunction with the ASMFC's Summer Flounder, Scup, and Black Sea Bass Board will review the 2015 Black Sea Bass, Scup, and Summer Flounder Specifications to review the SSC, the Monitoring Committee, and the Advisory Panel recommendations regarding 2015 harvest levels and associated management measures and recommend any changes to the 2015 management measures. The Council will approve the Scoping Document for the Comprehensive Summer Flounder Amendment.

On Thursday, August 14—The Council will review and approve the Omnibus Amendment to Simplify Vessel Baselines document for public hearings. The Council will hold its regular Business Session to receive Organizational Reports, the New England and South Atlantic Council Liaison Reports, the Executive Director's Report, Science Report, Committee Reports, and conduct any continuing and/or new business.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

The meetings are physically accessible to people with disabilities. Requests for sign language interpretation or other auxiliary aid should be directed to M. Jan Saunders, (302) 526-5251, at least 5 days prior to the meeting date.

Dated: July 21, 2014.
Tracey L. Thompson,
Acting Deputy Director, Office of Sustainable Fisheries, National Marine Fisheries Service.

[FR Doc. 2014-17432 Filed 7-23-14; 8:45 am]

BILLING CODE 3510-22-P